DEPARTMENT OF COMMERCE

Foreign-Trade Zones Board

[Order No. 1917]

Reorganization of Foreign-Trade Zone 65 Under Alternative Site Framework, Panama City, Florida

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Panama City Port Authority, grantee of Foreign-Trade Zone 65, submitted an application to the Board (FTZ Docket B-63-2013, docketed June 18, 2013) for authority to reorganize under the ASF with a service area of Bay and Washington Counties, adjacent to the Panama City Customs and Border Protection port of entry, to reinstate acreage at Site 3, to remove acreage from Site 4, and to categorize FTZ 65's existing Sites 1, 2, 3 (as modified), 4 (as modified) and 5 as magnet sites;

Whereas, notice inviting public comment was given in the Federal Register (78 FR 37784-37785, June 24, 2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 65 under the ASF is approved, subject to the FTZ Act and the Board's regulations, including Section 400.13, to the Board's standard 2,000-acre activation limit for the overall zone, and to a five-year ASF sunset provision for magnet sites that would terminate authority for Sites 2, 3, 4 and 5 if not activated by September 30, 2018.

Signed at Washington, DC, this 17th day of September, 2013.
Paul Piquado,
Assistant Secretary of Commerce for Import Administration, Alternate Chairman, Foreign-Trade Zones Board.
Andrew McGilvray,
Executive Secretary.

[FR Doc. 2013-23665 Filed 9-26-13; 8:45 am]

BILLING CODE 3510-DS-P